DEPARTMENT OF JUSTICE

Notice of Lodging of Consent Decree Under the Comprehensive Environmental Response, Compensation and Liability Act

Under 28 CFR 50.7, notice is hereby given that on May 14, 2002, a proposed amended consent decree in United States v. Neville Land Company, et al., Civ. Action No. 97-1683, was lodged with the United States District Court for the Western District of Pennsylvania.

In this action the United States is seeking response costs and injunctive relief to require environmental cleanup pursuant to the Comprehensive Environmental Response, Compensation and Liability Act (“CERCLA”) 42 U.S.C. 9601 et seq., in connection with the Ohio River Park Superfund Site (“Site”) on Neville Island, Allegheny County, Pennsylvania. The proposed decree will require defendants to perform the remedy selected by U.S. EPA for contaminated groundwater at the site. The decree will also require defendants to pay $35,839 in partial reimbursement of the United States' past response costs.

The Department of Justice will receive comments relating to the proposed consent decree for a period of thirty (30) days from the date of this publication. Comments should be addressed to the Assistant Attorney General, Environment and Natural Resources Division, and transmitted by one of the following methods: (1) Via U.S. Mail to P.O. Box 7611, U.S. Department of Justice, Washington, DC 20044-7611; (2) by facsimile to (202) 353-0296; and/or (3) by overnight delivery, other than through the U.S. Postal Service, c/o Chief, Environmental Enforcement Section, 1425 New York Avenue, NW., 13th Floor, Washington, DC 20005. Each communication should reference United States v. Neville Land Company, et al., D.J. Ref. No. 90-11-3-1723.

The proposed consent decree may be examined at the Office of the United States Attorney, 633 United States Post Office and Courthouse, Pittsburgh, PA 15219, and at U.S. EPA Region III, 1650 Arch Street, Philadelphia, PA 19103. A copy of the proposed consent decree may also be obtained by mail from the Consent Decree Library, P.O. Box 7611, U.S. Department of Justice, Washington, DC 20044-7611. When requesting a copy, please enclose a check in the amount of $22.25 (25 cents per page reproduction cost) payable to the U.S. Treasury. Exhibits to the consent decree may be obtained for an additional charge.

Robert Brook,
Assistant Section Chief, Environmental Enforcement Section, Environment and Natural Resources Division.

[FR Doc. 02-15523 Filed 6-19-02; 8:45 am]

BILLING CODE 4410-15-M